DEPARTMENT OF HEALTH AND HUMAN SERVICES

Administration for Children and Families

Notice of Public Comment on Tribal Consultation Sessions

AGENCY: Office of Head Start (OHS), Administration for Children and Families, HHS.

ACTION: Notice of public comment on Tribal Consultation Sessions to be held on July 7, July 21, and July 23, 2009.

SUMMARY: Pursuant to the Improving Head Start for School Readiness Act of 2007, Public Law 110-134, Notice is hereby given of one-day Tribal Consultation Sessions to be held between the Department of Health and Human Services, Administration for Children and Families, Office of Head Start leadership and the leadership of Tribal governments operating Head Start (including Early Head Start) programs. The purpose of the Consultation Sessions is to discuss ways to better meet the needs of Indian, including Alaska Native, children and their families, taking into consideration funding allocations, distribution formulas, and other issues affecting the delivery of Head Start services in their geographic locations [42 U.S.C. 9835, Section 640(l)(4)].

Date & Location:

The Consultation Sessions will be held as follows:

July 7, 2009—Denver, Colorado.

July 21, 2009—Kansas City, Missouri.

July 23, 2009—Mystic Lake, Minnesota.

FOR FURTHER INFORMATION CONTACT: Nina McFadden, Regional Program Manager, American Indian/Alaska Native Program Branch, Office of Head Start, email nina.mcfadden@acf.hhs.gov or (202) 205-8569. Additional information and online registration are available at http://www.hsnrc.org. Information on Tribal Consultation Sessions in other Regions will be announced once dates and locations are confirmed.

SUPPLEMENTARY INFORMATION: The Department of Health and Human Services would like to invite leaders of Tribal governments operating Head Start (including Early Head Start) programs to participate in a formal Consultation Session with OHS leadership. The Consultation Sessions will take place on July 7 in Denver, Colorado; July 21 in Kansas City, Missouri; and July 23 in Mystic Lake (in Prior Lake outside Minneapolis), Minnesota. Hotel and logistical information for the Consultation Sessions is currently being confirmed. This information will be sent to Tribal leaders via email and posted on the Head Start Resource Center Web site, http://www.hsnrc.org, as it becomes available.

The purpose of the Consultation Sessions is to solicit input on ways to better meet the needs of Indian, including Alaska Native, children and their families, taking into consideration funding allocations, distribution formulas, and other issues affecting the delivery of Head Start services in their geographic locations.

Tribal leaders and designated representatives interested in submitting topics for a Consultation Session agenda should contact Nina McFadden at nina.mcfadden@acf.hhs.gov. The proposal should include a brief description of the topic area along with the name and contact information of the suggested presenter.

The Consultation Sessions will be conducted with elected or appointed leaders of Tribal governments and their designated representatives [42 U.S.C. 9835, Section 640(l)(4)(A)]. Representatives from Tribal organizations and Native non-profit organizations are welcome to attend as observers. Those serving as representatives of a Tribe must have a written letter from the Tribal government authorizing them to serve as the Tribal representative. This should be submitted not less than 3 days in advance of the Consultation Session to Nina McFadden at 202-205-9721 (fax).

A detailed report of each Consultation Session will be prepared and made available within 90 days of the consultation to all Tribal governments receiving funds for Head Start (including Early Head Start) programs. Tribes wishing to submit written testimony for the consultation report should send it to Nina McFadden at nina.mcfadden@acf.hhs.gov either prior to the Consultation Session or within 30 days after the meeting. Please note that only written testimony submitted to OHS will be included in the report, as an appendix. Testimony and comments made orally will be summarized in the report without attribution, along with topics of concern and recommendations.

Dated: May 21, 2009.
Patricia Brown,
Acting Director, Office of Head Start.

[FR Doc. E9-12396 Filed 5-27-09; 8:45 am]

BILLING CODE 4184-01-P